DEPARTMENT OF COMMERCE

Bureau of Economic Analysis

Proposal To Collect Information on the Annual Survey of Foreign Direct Investment in the United States

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before June 25, 2001.

ADDRESSES: Direct all written comments to Madeleine Clayton, Departmental Paperwork Clearance Officer, Office of the Chief Information Officer, (202) 482-3129, Department of Commerce, Room 6086, 14th Street and Constitution Avenue, NW, Washington, DC 20230.

FOR FURTHER INFORMATION CONTACT: Requests for additional information or copies of the information collection instruments and instructions should be directed to: R. David Belli, U.S. Department of Commerce, Bureau of Economic Analysis, BE-50(OC), Washington, DC 20230 (Telephone: 202-606-9800).

SUPPLEMENTARY INFORMATION:

I. Abstract

The Annual Survey of Foreign Direct Investment in the United States (Form BE-15) obtains cut-off sample data on the financial structure and operations of nonbank U.S. affiliates of foreign investors. The data are needed to provide reliable, useful, and timely measures of foreign direct investment in the United States, assess its impact on the U.S. economy, and based upon this assessment, make informed policy decisions regarding foreign direct investment in the United States. The data are used to derive annual estimates of the operations of U.S. affiliates of foreign investors, including their balance sheets; income statements; property, plant, and equipment; external financing; employment and employee compensation; merchandise trade; sales of goods and services; taxes; and research and development (R&D) activity. The data are also used to update similar data for the universe of U.S. affiliates collected once every five years in the BE-12 benchmark survey.

No changes to the forms and instructions are proposed.

II. Method of Collection

The BE-15 annual survey is sent to potential respondents at the end of March each year. A completed report covering a reporting company's fiscal year ending during the previous calendar year is due by May 31, 60 days after mailing. Reports must be filed by every nonbank U.S. business enterprise that is owned 10 percent or more by a foreign investor and that has total assets, sales, or net income (or loss) of over $30 million. Potential respondents are those nonbank U.S. business enterprises that report in the 1997 benchmark survey of foreign direct investment in the United States, along with nonbank affiliates that subsequently enter the direct investment universe. The BE-15 is a cutoff-sample survey, as described; universe estimates are developed from the reported sample data.

III. Data

OMB Number: 0608-0034.

Form Number: BE-15.

Type of Review: Regular submission.

Affected Public: Businesses or other for-profit organizations.

Estimated Number of Respondents: 4,975.

Estimated Time Per Response: 26 hours.

Estimated Total Annual Burden: 128,000 hours.

Estimated Total Annual Cost: $3,840,000 (based on an estimated reporting burden of 128,000 hours and an estimated hourly cost of $30).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2001.
Madeleine Clayton,
Departmental Paperwork Clearance Officer, Office of the Chief Information Officer.

[FR Doc. 01-10087 Filed 4-23-01; 8:45 am]

BILLING CODE 3510-06-P